DEPARTMENT OF ENERGY

Federal Energy Regulatory Commission

[Project No. 12662-001]

Renewable Resources, Inc.; Notice of Preliminary Permit Application Accepted for Filing and Soliciting Comments, Motions To Intervene, and Competing Applications

August 24, 2009.

On July 1, 2009, Renewable Resources, Inc. filed a successive preliminary permit application, pursuant to section 4(f) of the Federal Power Act (FPA), proposing to study the feasibility of the Swift River Mill Hydroelectric Project No. 12662, to be located on the Pawcatuck River near the Towns of Westerly and Hopkinton, in Washington County, Rhode Island.

The proposed Swift River Mill Project would consist of: (1) The 10-foot-high, 112-foot-long Swift River Mill dam; (2) an existing 36-acre reservoir with a normal water surface elevation of 26.0 feet National Geodetic Vertical Datum; (3) an existing powerhouse with two new turbine generating units with a combined capacity of 360 kilowatts (kW), and two new vortex aerator turbine generating units with a combined capacity of 30 kW for a total installed capacity of 390 kW; (4) a new 300-foot-long underground transmission line; and (5) appurtenant facilities. The project would have an estimated annual generation of about 2,870 megawatt-hours.

Applicant Contact: Mr. Edward Carapezza, P.O. Box 365, Hopkinton, RI 02833, (401) 207-2643.

FERC Contact: Tom Dean, (202) 502-6041.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project can be viewed or printed on the “eLibrary” link of Commission's Web site at http://www.ferc.gov/docs-filing/elibrary.asp. Enter the docket number (P-12662) in the docket number field to access the document. For assistance, call toll-free 1-866-208-3372.

Kimberly D. Bose,
Secretary.

[FR Doc. E9-20851 Filed 8-28-09; 8:45 am]

BILLING CODE 6717-01-P